DEPARTMENT OF COMMERCE

National Oceanic and Atmospheric Administration

50 CFR Part 648

[Docket No. 0808041037-1687-03]

RIN 0648-AX05

Fisheries of the Northeastern United States; Atlantic Mackerel, Squid, and Butterfish Fisheries; Amendment 11

AGENCY: National Marine Fisheries Service (NMFS), National Oceanic and Atmospheric Administration (NOAA), Commerce.

ACTION: Final rule; effectiveness of collection-of-information requirements.

SUMMARY: NMFS announces approval by the Office of Management and Budget (OMB) of collection-of-information requirements in regulations implementing Amendment 11 to the Atlantic Mackerel, Squid, and Butterfish (MSB) Fishery Management Plan (FMP). This final rule sets the effective date of the collection-of-information requirements.

DATES: The collection-of-information requirements in 50 CFR 648.4 and 648.7 are effective on December 7, 2011.

ADDRESSES: Written comments regarding the burden-hour estimates or other aspects of the collection-of-information requirements contained in this final rule may be submitted to the Northeast Regional Office, NMFS, 55 Great Republic Drive, Gloucester, MA 01930, by email to OIRA_Submission@omb.eop.gov, or by fax to (202) 395-7285.

FOR FURTHER INFORMATION CONTACT: Aja Szumylo, Fishery Policy Analyst, (978) 281-9195.

SUPPLEMENTARY INFORMATION:

Background

A final rule for Amendment 11 to the MSB FMP was published in the Federal Register on November 7, 2011 (76 FR 68642). Details regarding the measures in Amendment 11 are in the final rule and are not repeated here. The OMB approval of the collection-of-information requirements for §§ 648.4 and 648.7 (as it relates to mackerel permit holders) had not been received by the date the final rule was submitted to the Office of the Federal Register for publication. OMB approved the collection-of-information requirements in the rule on November 9, 2011. This final rule makes the collection-of-information requirements effective.

Classification

NMFS previously solicited public comments on Amendment 11, including this collection of information, through the rulemaking process. NMFS received no comments on the collection of information requirements. Thus, this action merely implements portions of Amendment 11 that were previously proposed and subjected to public comment, but that under the Paperwork Reduction Act (PRA) required OMB approval in order to become effective. OMB has now approved the collection of information provisions. Because the public has already had an opportunity to comment on these provisions, an additional public comment period is unnecessary.

The AA finds good cause to waive the 30-day delayed effective date required by 5 U.S.C. 553 and make this rule effective upon publication. While the requirement to have a limited access mackerel permit is delayed until March 1, 2012, it is important to begin now the underlying administrative process in order to maximize the number of permit applications that can be acted upon by this deadline.

This final rule has been determined to be not significant for purposes of Executive Order 12866.

Notwithstanding any other provision of the law, no person is required to respond to, and no person shall be subject to penalty for failure to comply with, a collection-of-information requirement subject to the requirements of the PRA, unless that collection-of-information displays a currently valid OMB control number. This final rule contains revisions to collection-of-information requirements subject to the PRA under OMB Control Numbers 0648-0601 and 0648-0212.

The requirements related to the limited access mackerel program have been approved under the MSB Amendment 10 Family of Forms (OMB Control No. 0648-0601). Under the approved limited access program, and pursuant to regulations at 50 CFR 648.4, vessel owners are required to submit to NMFS application materials to demonstrate their eligibility for a limited access permit. The public burden for the application requirement pertaining to the limited access program is estimated to average 45 minutes per application, including the time for reviewing instructions, searching existing data sources, gathering and maintaining the data needed, and completing and reviewing the collection information.

Only 410 vessels are expected to qualify and consequently renew their limited access mackerel permits via the renewal application each year. The renewal application is estimated to take 30 minutes on average to complete. Up to 30 applicants are expected to appeal the denial of their permit application. The appeals process is estimated to take an average of 2 hours to complete. Vessels that qualify for a Tier 1 or Tier 2 mackerel permit would be required to submit documentation of hold volume size. The Council estimated that 74 vessels would qualify for either a Tier 1 or Tier 2 limited access mackerel permit. Tier 1 and 2 vessel owners will experience a time burden due to this requirement in the form of travel time to/from a certified marine surveyor. It is not possible to estimate a time burden associated with obtaining a hold volume measurement, as vessels would have to travel varying distances to visit certified marine surveyors. Travel time to a marine surveyor is not an information collection burden, so is not considered a response.

Completing a replacement or upgrade application requires an estimated 3 hours per response. It is estimated that no more than 40 of 410 vessels possessing these permits will request a vessel replacement or upgrade annually. Completion of a CPH application requires an estimated 30 minutes per response. It is estimated that no more than 30 of the 410 vessels possessing these limited access permits will request a CPH annually.

The regulations at 50 CFR 648.7 modify the VTR requirement for Tier 3 mackerel vessels. All mackerel vessels are currently required to submit VTRs on a monthly basis; this requirement is currently approved under the Northeast Region Logbook Family of Forms (OMB Control No. 0648-0212). Amendment 11 will require vessels issued a Tier 3 mackerel permit to submit VTRs on a weekly basis. A change request for this requirement has been approved by OMB. The public burden for the revised VTR requirement is expected to average 5 minutes for each additional VTR submission.

Send comments on these burden estimates or any other aspects of these collections-of-information, including suggestions for reducing the burden, by mail to the Northeast Regional Office (see ADDRESSES), by email to OIRA_Submission@omb.eop.gov or by fax to (202) 395-7285.

Authority: 16 U.S.C. 1801 et seq.

Dated: November 28, 2011.
Samuel D. Rauch III,
Deputy Assistant Administrator for Regulatory Programs, National Marine Fisheries Service.

[FR Doc. 2011-30936 Filed 11-30-11; 8:45 am]

BILLING CODE 3510-22-P